ENVIRONMENTAL PROTECTION AGENCY

[EPA-HQ-OAR-2020-0664; FRL-12902-01-OMS]

Agency Information Collection Activities; Submission to the Office of Management and Budget for Review and Approval; Comment Request; NSPS for Emission Guidelines and Compliance Times for Small Municipal Waste Combustion Units Constructed on or Before August 30, 1999 (Renewal)

AGENCY: Environmental Protection Agency (EPA).

ACTION: Notice.

SUMMARY: The Environmental Protection Agency (EPA) has submitted an information collection request (ICR), NSPS for Emission Guidelines and Compliance Times for Small Municipal Waste Combustion Units Constructed on or before August 30, 1999 (EPA ICR Number 1901.09, OMB Control Number 2060-0424) to the Office of Management and Budget (OMB) for review and approval in accordance with the Paperwork Reduction Act. This is a proposed extension of the ICR, which is currently approved through July 31, 2025. Public comments were previously requested via the Federal Register on August 6, 2024 during a 60-day comment period. This notice allows for an additional 30 days for public comments.

DATES: Comments may be submitted on or before August 25, 2025.

ADDRESSES: Submit your comments, referencing Docket ID Number EPA-HQ-OAR-2020-0664, to EPA online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division, Office of Air Quality Planning and Standard, D243-05, Environmental Protection Agency, 1200 Pennsylvania Ave. NW, Washington, DC 20460; telephone number: (919) 541-0833; email address: ali.muntasir@epa.gov.

SUPPLEMENTARY INFORMATION: This is a proposed extension of the ICR, which is currently approved through July 31, 2025. An agency may not conduct or sponsor and a person is not required to respond to a collection of information unless it displays a currently valid OMB control number.

Public comments were previously requested via the Federal Register on August 6, 2024 during a 60-day comment period (89 FR 63933). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Emission Guidelines and Compliance Times for Small Municipal Waste Combustion Units Constructed on or Before August 30, 1999 were originally promulgated in December 1995, but were vacated by the Federal Court during March 1997. Subsequently, the Emission Guidelines were re-proposed on August 30, 1999; and promulgated on December 6, 2000. The Emission Guidelines regulate organics (dioxin/furans), metals (cadmium, lead, mercury), particulate matter, and acid gases (hydrogen chloride, sulfur dioxide, and nitrogen oxides) for small Municipal Waste Combustion (MWC) units. Small MWC units are MWC units with capacities to combust greater than 35 tons per day (tpd) and less than 250 tons per day (tpd) of municipal solid waste. The Emission Guidelines contain monitoring, reporting, and recordkeeping requirements that are to be included in state plans. If a State/Local Agency does not develop, adopt, and submit an approvable State plan, then facilities in that state are subject to the Federal Plan (Federal Plan Requirements for Small Municipal Waste Combustion Units Constructed On or Before August 30, 1999 (40 CFR part 62, subpart JJJ)), adopted on January 31, 2003. The Federal Plan implements the emission guidelines in jurisdictions that have not developed an approved State Plan. These regulations do not directly apply to small MWC unit owners and operators. However, MWC unit owners and operators must comply with either the State or Federal plans to implement the emission guidelines contained in this Subpart. This Information Collection Request (ICR) identifies the burden to both respondents (owners or operators of small MWC units) and the Designated Administrator (either state/local agencies or the Federal government) to implement the emission guidelines imposed by the State plans. This information is being collected to assure compliance with 40 CFR part 60, subpart BBBB.

In general, all Emission Guidelines require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to these Emission Guidelines.

Form Numbers: None.

Respondents/affected entities: Small MWC units constructed on or before August 30, 1999.

Respondent's obligation to respond: Mandatory (40 CFR part 60, subpart BBBB).

Estimated number of respondents: 14 (total).

Frequency of response: Initially, annually, and semiannually.

Total estimated burden: 55,600 hours (per year). Burden is defined at 5 CFR 1320.03(b).

Total estimated cost: $5,321,000 (per year), which includes $411,000 annualized capital or operation & maintenance costs.

Changes in the estimates: There is a decrease of 30,900 hours in the total estimated respondent burden compared with the ICR currently approved by OMB. This decrease is due to more accurate estimates of existing sources. The EPA has determined that several sources have closed since the previously-approved ICR renewal. Because there is a decrease in the number of respondents, there is also a decrease in the capital/O&M costs from the most recently approved ICR. The capital/O&M costs were increased from 2009 $ to 2023 $ using the CEPCI CE Index; however, the result is a net decrease in the capital/O&M costs.

Courtney Kerwin,
Director, Information Engagement Division.

[FR Doc. 2025-13921 Filed 7-23-25; 8:45 am]

BILLING CODE 6560-50-P